DEPARTMENT OF THE INTERIOR

National Park Service

Lake Clark National Park Subsistence Resource Commission Meeting

AGENCY: National Park Service, Interior.

ACTION: Announcement of Subsistence Resource Commission meeting.

SUMMARY: Notice is hereby given in accordance with the Federal Advisory Committee Act that a meeting of the Lake Clark National Park Subsistence Resource Commission will be held on, Thursday, September 26, 2002, and Friday, September 27, 2002, at the National Park Service hangar in Port Alsworth, Alaska. The meeting will be open to the public. Any person may file with the Commission a written statement concerning the matters to be discussed. The purpose of the meeting will be to continue work on National Park Service subsistence hunting program recommendations including other related subsistence management issues.

The following agenda items will be discussed:

1. Call to order (SRC Chair).

2. Roll Call and Confirmation of Quorum.

3. SRC Chair and Superintendent's Welcome and Introductions.

4. Review Commission Purpose and Status of Membership.

5. Review and Adopt Agenda.

6. Review and adopt minutes from last meeting.

7. Superintendent's Report.

8. Update—Review Federal Subsistence Board Actions on Wildlife Proposals.

9. Update—Review Federal Subsistence Board Actions on Fisheries Proposals.

10. Public and agency comments.

11. Set time and place of next SRC meeting.

12. Adjournment.

DATES: The meeting will begin at 10 a.m. on Thursday, September 26, 2002, and conclude at approximately 5 p.m. The meeting will reconvene at 9 a.m. on Friday, September 27, 2002, and adjourn at approximately 3 p.m. The meeting will adjourn earlier if the agenda items are completed.

LOCATION: The meeting will be held at the National Park Service hangar in Port Alsworth, Alaska, telephone (907) 781-2216. Notice of this meeting will be published in local newspapers and announced on local radio stations prior to the meeting dates. Locations and dates may need to be changed based on weather or local circumstances.

FOR FURTHER INFORMATION CONTACT: Persons who want further information concerning the meeting may contact Superintendent Deb Liggett at (907) 271-3751 or Mary McBurney, Subsistence Manager at (907) 257-2633.

SUPPLEMENTARY INFORMATION: The Subsistence Resource Commissions are authorized under Title VIII, Section 808, of the Alaska National Interest Lands Conservation Act, Pub. L. 96-487, and operation in accordance with the provisions of the Federal Advisory Committees Act.

Draft minutes of the meeting will be available for public inspection approximately six weeks after the meeting from: Superintendent, Lake Clark National Park and Preserve, P.O. Box 4230, University Drive #311, Anchorage, AK 99508.

Robert L. Arnberger,
Regional Director, National Park Service, Alaska Region.

[FR Doc. 02-23013 Filed 9-10-02; 8:45 am]

BILLING CODE 4310-70-P